GENERAL SERVICES ADMINISTRATION

Office of Communications

Cancellation of an Optional Form by the Office of Personnel Management (OPM)

AGENCY: Office of Communications, GSA.

ACTION: Notice.

SUMMARY: The Office of Personnel Management (OPM) cancelled of 630, Leave Recipient Application Under the Voluntary Leave Transfer Program. The form was only available with FPM Letter 630-33 which no longer exists. OPM developed their own form (OPM 630) which they are happy to share with you. To obtain a copy of this form, go to the following internet site: http://www.opm.gov/forms.

DATES: Effective October 19, 2001.

FOR FURTHER INFORMATION CONTACT: Ms. Barbara Williams, General Services Administration, (202) 501-0581.

Dated: October 12, 2001.
Barbara M. Williams,
Deputy Standard and Optional Forms Management Officer, General Services Administration.

[FR Doc. 01-26342 Filed 10-18-01; 8:45 am]

BILLING CODE 6820-34-M